DEPARTMENT OF HOMELAND SECURITY

Coast Guard

33 CFR Part 117

[Docket No. USCG-2009-0829]

Drawbridge Operation Regulation; Gulf Intracoastal Waterway, Bradenton Beach, FL

AGENCY: Coast Guard, DHS.

ACTION: Notice of temporary deviation from regulations.

SUMMARY: The Commander, Seventh Coast Guard District, has issued a temporary deviation from the regulation governing the operation of the Cortez bridge across the Gulf Intracoastal Waterway, mile 87.4, at Bradenton Beach, FL. The deviation is necessary to facilitate repairs of the bascule leaves of the bridge. This deviation allows the bridge to conduct single-leaf operations while repairs are conducted. A two hour notice for double leaf operations will be required.

DATES: This deviation is effective from 7 a.m. on September 14, 2009 through 7 p.m. on December 31, 2009.

ADDRESSES: Documents mentioned in this preamble as being available in the docket are part of docket USCG-2009-0829 and are available online by going to http://www.regulations.gov, inserting USCG-2009-0829 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Michael Lieberum, Bridge Branch, Seventh Coast Guard District; telephone 305-415-6744, e-mail michael.b.lieberum@uscg.mil. If you have questions on viewing the docket, call Renee V. Wright, Program Manager, Docket Operations, telephone 202-366-9826.

SUPPLEMENTARY INFORMATION: Worth Contracting on behalf of Florida Department of Transportation, has requested a deviation to the regulations of the Cortez bridge across the Gulf Intracoastal Waterway as required by 33 CFR 117.287(d)(1) Cortez (SR 684) Bridge, mile 87.4. The draw shall open on signal, except that from 6 a.m. to 7 p.m., the draw need only open on the hour, 20 minutes after the hour, and 40 minutes after the hour. From January 15 to May 15, from 6 a.m. to 7 p.m., the draw need only open on the hour and half-hour. To facilitate the repair of the bascule leaves, one leaf will be allowed to remain in the closed position upon signal from a vessel, except with a three hour notification to the bridge tender for a double-leaf opening. This deviation effectively reduces the horizontal clearance of 90 feet by half for vessels requiring an opening. Vessels not requiring an opening may pass at anytime. This action will affect a limited number of vessels as the ability to use the full 90 foot horizontal clearance is available with a two hour notification. This action is necessary to allow Worth Contracting to conduct necessary repairs to the bascule leaves safely and efficiently.

In accordance with 33 CFR 117.35(e), the drawbridge must return to its regular operating schedule immediately at the end of the designated time period. This deviation from the operating regulations is authorized under 33 CFR 117.35.

Dated: November 6, 2009.
Scott A. Buschman,
Captain, U.S. Coast Guard, Acting Commander, Seventh Coast Guard District.

[FR Doc. E9-28909 Filed 12-3-09; 8:45 am]

BILLING CODE 4910-15-P